SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f):

1. Chesapeake Appalachia, LLC, Pad ID: Rossi, ABR-201111011.R1, Litchfield Township, Bradford County, Pa.; Consumptive Use of Up to 7.5000 mgd; Approval Date: July 13, 2016.

2. Chesapeake Appalachia, LLC, Pad ID: Williamson, ABR-201111019.R1, Smithfield Township, Bradford County, Pa.; Consumptive Use of Up to 7.5000 mgd; Approval Date: July 13, 2016.

3. Chesapeake Appalachia, LLC, Pad ID: Edger, ABR-201112020.R1, Smithfield and Ulster Townships, Bradford County, Pa.; Consumptive Use of Up to 7.5000 mgd; Approval Date: July 13, 2016.

4. Chesapeake Appalachia, LLC, Pad ID: RGB, ABR-201112021.R1, Smithfield Township, Bradford County, Pa.; Consumptive Use of Up to 7.5000 mgd; Approval Date: July 13, 2016.

5. Chesapeake Appalachia, LLC, Pad ID: Yost, ABR-201112022.R1, Franklin Township, Bradford County, Pa.; Consumptive Use of Up to 7.5000 mgd; Approval Date: July 13, 2016.

6. Chesapeake Appalachia, LLC, Pad ID: Wildonger, ABR-201112026.R1, Wyalusing Township, Bradford County, Pa.; Consumptive Use of Up to 7.5000 mgd; Approval Date: July 13, 2016.

7. Chesapeake Appalachia, LLC, Pad ID: Sharidan, ABR-201112027.R1, Litchfield Township, Bradford County, Pa.; Consumptive Use of Up to 7.5000 mgd; Approval Date: July 13, 2016.

8. Chief Oil & Gas LLC, Pad ID: Kingsley B Drilling Pad #1, ABR-201112009.R1, Monroe Township, Bradford County, Pa.; Consumptive Use of Up to 2.0000 mgd; Approval Date: July 13, 2016.

9. Chief Oil & Gas LLC, Pad ID: Kaufmann Drilling Pad #1, ABR-201201001.R1, Wilmot Township, Bradford County, Pa.; Consumptive Use of Up to 2.0000 mgd; Approval Date: July 13, 2016.

10. Chief Oil & Gas LLC, Pad ID: Yoder Drilling Pad #1, ABR-201201003.R1, Leroy Township, Bradford County, Pa.; Consumptive Use of Up to 2.0000 mgd; Approval Date: July 13, 2016.

11. Chief Oil & Gas LLC, Pad ID: Bailey Drilling Pad #1, ABR-201201013.R1, Overton Township, Bradford County, Pa.; Consumptive Use of Up to 2.0000 mgd; Approval Date: July 13, 2016.

12. EOG Resources, Inc., Pad ID: FAY 1H Pad, ABR-201107019.R1, Ridgebury Township, Bradford County, Pa.; Consumptive Use of Up to 4.9990 mgd; Approval Date: July 13, 2016.

13. SWN Production Company, LLC, Pad ID: Van Order Pad, ABR-201107042.R1, Herrick Township, Bradford County, Pa.; Consumptive Use of Up to 4.9900 mgd; Approval Date: July 13, 2016.

14. Warren Marcellus, LLC, Pad ID: Reimiller 1, ABR-201110001.R1, Meshoppen and Washington Townships, Wyoming County, Pa.; Consumptive Use of Up to 5.0000 mgd; Approval Date: July 13, 2016.

15. Warren Marcellus, LLC, Pad ID: Mattocks 1, ABR-201110002.R1, Washington Township, Wyoming County, Pa.; Consumptive Use of Up to 5.0000 mgd; Approval Date: July 13, 2016.

16. Warren Marcellus, LLC, Pad ID: McConnell 1, ABR-201110003.R1, Tunkhannock Township, Wyoming County, Pa.; Consumptive Use of Up to 5.0000 mgd; Approval Date: July 13, 2016.

17. Chief Oil & Gas LLC, Pad ID: Hemlock Hunting Club B Drilling Pad #1, ABR-201607001, Elkland Township, Sullivan County, Pa.; Consumptive Use of Up to 2.5000 mgd; Approval Date: July 15, 2016.

18. Chief Oil & Gas LLC, Pad ID: Jacobson Unit Pad, ABR-201607002, Franklin Township, Bradford County, Pa.; Consumptive Use of Up to 2.5000 mgd; Approval Date: July 15, 2016.

19. SWEPI LP, Pad ID: Wood 626, ABR-201106006.R1, Sullivan Township, Tioga County, Pa.; Consumptive Use of Up to 4.0000 mgd; Approval Date: July 20, 2016.

20. Chief Oil & Gas LLC, Pad ID: Lucarino Drilling Pad #1, ABR-201112010.R1, Wilmot Township, Bradford County, Pa.; Consumptive Use of Up to 2.0000 mgd; Approval Date: July 20, 2016.

21. Talisman Energy USA Inc., Pad ID: 02 010 DCNR 587, ABR-201108002.R1, Ward Township, Tioga County, Pa.; Consumptive Use of Up to 6.0000 mgd; Approval Date: July 20, 2016.

22. Talisman Energy USA Inc., Pad ID: 03 113 Vanblarcom, ABR-201108003.R1, Columbia Township, Bradford County, Pa.; Consumptive Use of Up to 6.0000 mgd; Approval Date: July 21, 2016.

23. Talisman Energy USA Inc., Pad ID: 03 111 Stephani, ABR-201108009.R1, Columbia Township, Bradford County, Pa.; Consumptive Use of Up to 6.0000 mgd; Approval Date: July 21, 2016.

24. Talisman Energy USA Inc., Pad ID: 05 229 Acres, ABR-201108010.R1, Windham Township, Bradford County, Pa.; Consumptive Use of Up to 6.0000 mgd; Approval Date: July 21, 2016.

25. Talisman Energy USA Inc., Pad ID: 05 164 Bennett, ABR-201107049.R1, Stevens Township, Bradford County and Rush Township, Susquehanna County, Pa.; Consumptive Use of Up to 6.0000 mgd; Approval Date: July 25, 2016.

26. Talisman Energy USA Inc., Pad ID: 02 153 Mountain Run Hunting Club, ABR-201107050.R1, Union Township, Tioga County, Pa.; Consumptive Use of Up to 6.0000 mgd; Approval Date: July 25, 2016.

27. Seneca Resources Corporation, Pad ID: DCNR 007 Pad K, ABR-201112018.R1, Delmar Township, Tioga County, Pa.; Consumptive Use of Up to 4.0000 mgd; Approval Date: July 25, 2016.

28. Chesapeake Appalachia, LLC, Pad ID: Raimo, ABR-201201005.R1, Monroe and Overton Townships, Bradford County, Pa.; Consumptive Use of Up to 7.5000 mgd; Approval Date: July 26, 2016.

29. Chesapeake Appalachia, LLC, Pad ID: Kathryn, ABR-201201006.R1, Wilmot Township, Bradford County, Pa.; Consumptive Use of Up to 7.5000 mgd; Approval Date: July 26, 2016.

30. Chesapeake Appalachia, LLC, Pad ID: Ridenour, ABR-201201008.R1, Cherry Township, Sullivan County, Pa.; Consumptive Use of Up to 7.5000 mgd; Approval Date: July 26, 2016.

31. Talisman Energy USA Inc., Pad ID: 05 008 Michnich, ABR-201108026.R1, Pike Township, Bradford County, Pa.; Consumptive Use of Up to 6.0000 mgd; Approval Date: July 27, 2016.

32. Talisman Energy USA Inc., Pad ID: 03 074 Haralambous, ABR-201108037.R1, Columbia Township, Bradford County, Pa.; Consumptive Use of Up to 6.0000 mgd; Approval Date: July 27, 2016.

33. Talisman Energy USA Inc., Pad ID: 05 104 Rennekamp R, ABR-201108044.R1, Pike Township, Bradford County, Pa.; Consumptive Use of Up to 6.0000 mgd; Approval Date: July 27, 2016.

34. Chesapeake Appalachia, LLC, Pad ID: Redbone, ABR-201201004.R1, Wilmot Township, Bradford County, Pa.; Consumptive Use of Up to 7.5000 mgd; Approval Date: July 28, 2016.

35. Chesapeake Appalachia, LLC, Pad ID: Elwell, ABR-201201009.R1, Wilmot Township, Bradford County, Pa.; Consumptive Use of Up to 7.5000 mgd; Approval Date: July 28, 2016.

36. Chesapeake Appalachia, LLC, Pad ID: Calmitch, ABR-201201029.R1, Wilmot Township, Bradford County, Pa.; Consumptive Use of Up to 7.5000 mgd; Approval Date: July 28, 2016.

37. Chesapeake Appalachia, LLC, Pad ID: Manahan, ABR-201201036.R1, Albany Township, Bradford County, Pa.; Consumptive Use of Up to 7.5000 mgd; Approval Date: July 28, 2016.

38. Chesapeake Appalachia, LLC, Pad ID: Messersmith, ABR-201201037.R1, Wilmot Township, Bradford County, Pa.; Consumptive Use of Up to 7.5000 mgd; Approval Date: July 28, 2016.

39. Pennsylvania General Energy Co. LLC, Pad ID: COP Tract 356 Pad J, ABR-201201014.R1, Cummings Township, Lycoming County, Pa.; Consumptive Use of Up to 3.0000 mgd; Approval Date: July 29, 2016.

40. Chief Oil & Gas LLC, Pad ID: Yonkin B Drilling Pad, ABR-201607003, Cherry Township, Sullivan County, Pa.; Consumptive Use of Up to 2.5000 mgd; Approval Date: July 29, 2016.

Authority: Pub. L. 91-575, 84 Stat. 1509 et seq., 18 CFR parts 806, 807, and 808.

Dated: September 19, 2016.
Stephanie L. Richardson,
Secretary to the Commission.

[FR Doc. 2016-22879 Filed 9-22-16; 8:45 am]

BILLING CODE 7040-01-P